DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Date and Time: May 30, 2013, 10:00 a.m.-5:00 p.m. Eastern Time.

Place: Webinar format.

Status: The meeting will be open to the public.

Purpose: The Council on Graduate Medical Education provides advice and recommendations to the Secretary of the Department of Health and Human Services and to Congress on a range of issues including the supply and distribution of physicians in the United States, current and future physician shortages or excesses, issues relating to foreign medical school graduates, the nature and financing of medical education training, and the development of performance measures and longitudinal evaluation of medical education programs.

At this meeting, the Council will finalize work on its 21st Report and then begin discussions for its next report. The Council will also discuss recent developments in the physician workforce and in graduate medical education.

Agenda: The meeting on Thursday, May 30, 2013, will begin with opening comments from HRSA senior officials. Work on the Council's 21st report on the restructuring of graduate medical education will finish. The Council will also discuss current issues related to the physician workforce and graduate medical education with the objective of determining a topic for the next report. The Council will plan for its next meeting, which will be face-to-face, for late summer of 2013. An opportunity will be provided for public comment at the end of the meeting.

SUPPLEMENTARY INFORMATION: Information on accessing the webinar will be available via the following Web site two days prior the meeting date: http://www.hrsa.gov/advisorycommittees/bhpradvisory/cogme/index.html. The audio portion of the meeting will be computer-based; therefore, anyone wishing to make a public comment should use the Question & Answer Pod anytime during the meeting. The questions will be collected and as many addressed as possible during time provided at the end of the meeting. Anyone wishing further information on the webinar aspects of the meeting should contact Iwona Grodecki at 301-443-8379.

The agenda for this meeting will be made available to the public two days prior the meeting date at the above-mentioned web address.

FOR FURTHER INFORMATION CONTACT: Anyone requesting information regarding the COGME should contact Mr. Shane Rogers, Designated Federal Official within the Bureau of Health Professions, Health Resources and Services Administration, in one of following three ways: (1) Send a request to the following address: Shane Rogers, Designated Federal Official, Bureau of Health Professions, Health Resources and Services Administration, Parklawn Building, Room 9A-27, 5600 Fishers Lane, Rockville, Maryland 20857; (2) call 301-443-5260; or (3) send an email to srogers@hrsa.gov.

Dated: May 3, 2013.
Bahar Niakan,
Director, Division of Policy and Information Coordination.

[FR Doc. 2013-11087 Filed 5-9-13; 8:45 am]

BILLING CODE 4165-15-P